ENVIRONMENTAL PROTECTION AGENCY

40 CFR Part 63

[EPA-R07-OAR-2026-0497; FRL-13206-01-R7]

Approval of Missouri's Request for Partial Program Delegation of Clean Air Act Section 112(r) Prevention of Accidental Release Program

AGENCY: Environmental Protection Agency (EPA).

ACTION: Proposed rule.

SUMMARY: Under the Clean Air Act (CAA), EPA may approve State or local rules or programs to be implemented and enforced in place of certain otherwise applicable Federal rules, emissions standards, or requirements. On October 6, 2025, the Missouri Department of Natural Resources (MoDNR), on behalf of the State of Missouri, requested delegation of a partial CAA Risk Management Program (RMP) for agricultural anhydrous ammonia facilities. The request was supplemented by MoDNR on October 9, 2025, and on October 27, 2025. The EPA has determined that MoDNR's request meets CAA requirements for delegation of a partial program, and the EPA is proposing to approve the request.

DATES: Comments must be received on or before March 30, 2026.

ADDRESSES: Submit your comments, identified by Docket ID No. EPA-R07-OAR-2026-0497, at https://www.regulations.gov, or via email to gallick.christina@epa.gov. Once submitted, comments cannot be edited or removed from the docket. The EPA may publish any comment received to its public docket. Do not submit to the EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

FOR FURTHER INFORMATION CONTACT: Christina Gallick, Chemical Accident Prevention Section, U.S. Environmental Protection Agency, Region 7, 11201 Renner Blvd., Lenexa, Kansas 66219, telephone number: (913)-551-7429, email address: gallick.christina@epa.gov.

SUPPLEMENTARY INFORMATION:

Table of Contents

I. What action is the EPA proposing in this document?

II. Background

A. Risk Management Program Background

B. Delegation of Section 112 Programs

C. Missouri's Request for Delegation

III. The EPA's Analysis of MoDNR's Submittal

IV. Proposed Action

V. Incorporation by Reference

VI. Statutory and Executive Order Reviews

A. Executive Order 12866: Regulatory Planning and Review and Executive Order 13563: Improving Regulation and Regulatory Review

B. Executive Order 14192: Unleashing Prosperity Through Deregulation

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution or Use

J. National Technology Transfer and Advancement Act (NTTAA)

I. What action is the EPA proposing in this document?

The EPA is proposing to approve the request submitted by MoDNR on behalf of the State of Missouri (hereinafter referred to as the State or Missouri) to delegate a partial RMP for agricultural anhydrous ammonia facilities, as defined in the State's regulations, to the State of Missouri. The EPA would retain authority for the RMP for all other regulated chemicals which may be present at these facilities and any anhydrous ammonia that does not meet the definition of agricultural anhydrous ammonia.

On October 6, 2025, the State submitted a request for delegation of a partial RMP for facilities with an anhydrous ammonia storage capacity of ten thousand pounds or more that is intended to be used as fertilizer or in the manufacturing of a fertilizer (an “agricultural anhydrous ammonia facility”), as stated in 10 Code of State Regulations (CSR) 10-6.255(2)(B). The State's request was supplemented on October 9, 2025, and October 27, 2025. Based on our review of the State's request, which is described in detail in the following sections, the EPA proposes to find that such a delegation is appropriate in that Missouri has satisfied the criteria in 40 CFR 63.91, 63.93, and 63.95. The State's request is included in the docket for this action.

If approval is finalized, Missouri will have the primary authority and responsibility to carry out elements of the partial RMP for agricultural anhydrous ammonia facilities within the State, including onsite inspections, recordkeeping reviews, audits, compliance assistance and outreach, and civil and criminal enforcement. The EPA will retain concurrent authority to implement the RMP for agricultural anhydrous ammonia facilities within the State and will retain sole authority for implementing the RMP for all other chemicals and any anhydrous ammonia that does not meet the definition of agricultural anhydrous ammonia at these facilities, and for the RMP generally in Missouri for all other facilities.

II. Background

A. Risk Management Program Background

The EPA originally issued the RMP regulations in two stages. The Agency published the list of regulated substances and Threshold Quantities (TQ) in 1994: “List of Regulated Substances and Thresholds for Accidental Release Prevention; Requirements for Petitions Under Section 112(r) of the Clean Air Act as Amended” (59 FR 4478, January 31, 1994), hereinafter referred to as the “list rule.” ¹ The Agency published the RMP final regulation, containing risk management requirements for covered sources, in 1996: “Accidental Release Prevention Requirements: Risk Management Programs Under Clean Air Act Section 112(r)(7)” (61 FR 31668, June 20, 1996), hereinafter referred to as the “1996 RMP rule”.² ³ Subsequent modifications to the list rule and the 1996 RMP rule were made as discussed in the 2017 Amendments rule (“Accidental Release Prevention Requirements: Risk Management Programs Under the Clean Air Act” (82 FR 4594, January 13, 2017), the 2019 Reconsideration rule (“Accidental Release Prevention Requirements: Risk Management Programs Under the Clean Air Act” (84 FR 69834, December 19, 2019), and the 2024 SCCAP rule (“Accidental Release Prevention Requirements: Risk Management Programs Under the Clean Air Act; Safer Communities by Chemical Accident Prevention” (89 FR 17622, March 11, 2024).

¹ Documents and information related to development of the list rule can be found in the EPA docket for the rulemaking, docket number A-91-74.

² Documents and information related to development of the 1996 RMP rule can be found in the EPA docket number A-91-73.

³ 40 CFR part 68 applies to owners and operators of stationary sources that have more than a TQ of a regulated substance within a process. The regulations do not apply to chemical hazards other than listed substances held above a TQ within a regulated process.

Prior to development of the EPA's 1996 RMP rule, OSHA published its PSM standard in 1992 (57 FR 6356, February 24, 1992), as required by section 304 of the 1990 Clean Air Act Amendments, using its authority under 29 U.S.C. 653. The OSHA PSM standard can be found in 29 CFR 1910.119. Both the OSHA PSM standard and the EPA's 1996 RMP rule aim to prevent or minimize the consequences of accidental chemical releases through implementation of management program elements that integrate technologies, procedures, and management practices. In addition to requiring implementation of management program elements, the 1996 RMP rule requires any covered source to submit to the EPA a document summarizing the source's risk management program—called a risk management plan.

B. Delegation of Section 112 Programs

Section 112(l) of the CAA and 40 CFR part 63, subpart E, authorize the EPA to approve State rules and programs to be implemented and enforced in place of certain CAA requirements, including the RMP set forth at 40 CFR part 68. Section 112(l)(5) states that “[n]ot later than 180 days after receiving a program submitted by a State, and after notice and opportunity for public comment, the Administrator shall either approve or disapprove such program.”

The criteria that must be demonstrated by a State to receive approval of the program is set forth in 40 CFR 63.91(a), and a State seeking approval of State rules implementing part 68 must also satisfy requirements under 40 CFR 63.95 to obtain delegation of a section 112 program.

If the State adopts federal rules unchanged, then only the criteria in 40 CFR 63.91(d) are required, except for delegation of the RMP for which the provisions of 40 CFR 63.95 must also be met. When the State adopts federal rules with changes, then the provisions of either 40 CFR 63.92 or 40 CFR 63.93 must also be met. The provisions for 40 CFR 63.92 are followed if the changes are pre-approved, and the provisions of 40 CFR 63.93 are followed if the changes do not qualify for approval under 40 CFR 63.92. See 40 CFR 63.91(a)(2) and (a)(4).

Under 40 CFR 63.91(d), the State may either reference approval of a Title V program or directly satisfy the requirements in (d)(3)(i)-(v). These requirements include:

• A written finding by the State Attorney General that the State has the necessary legal authority to implement and enforce the program and to assure compliance;

• A copy of the State's statutes, regulations, and requirements granting authority to implement and enforce the program;

• A demonstration that the State has adequate resources to implement and enforce the program;

• A schedule demonstrating expeditious implementation of the program; and

• A plan that assures expeditious compliance, including a complete description of the State's compliance tracking and enforcement program.

Section 63.93 pertains to approval of State requirements which differ from a Federal section 112 rule, and the State must meet all of the requirements of 40 CFR 63.93(b). These criteria include:

• A demonstration that applicability criteria are no less stringent than the regulations of 40 CFR part 68;

• Accidental prevention program requirements for each affected source that are no less stringent than would result from the otherwise applicable Federal rule;

• A compliance schedule that requires compliance within a time frame consistent with the deadlines in the regulations of 40 CFR part 68; and

• Documentation of compliance and enforcement measures meeting the minimum provisions described in § 63.95.

Under 40 CFR 63.95(b), the State's part 68 program shall contain the following elements, consistent with the procedures in § 63.91, and where appropriate either § 63.92 or § 63.93, for at least the chemicals listed in 40 CFR part 68, subpart F, that an approvable State Accidental Release Prevention program is regulating:

• A demonstration of the State's authority and resources to implement and enforce regulations that are no less stringent than the regulations of 40 CFR part 68, subparts A through G, and 40 CFR 68.200;

• A requirement that any source subject to the State's part 68 program submit a risk management plan that reports at least the same information in the same format as required under part 68, subpart G;

• Procedures for reviewing risk management plans and providing technical assistance to stationary sources including small businesses; and

• A demonstration of the State's authority to enforce all part 68 requirements must be made, including an auditing strategy that complies with § 68.220.

For a program that covers all of the federally-listed chemicals (a “complete program”) or a program covering less than all of the federally-listed chemicals (a “partial program”), the State must take delegation of the full part 68 program for the federally-listed chemicals it regulates. See 40 CFR 63.95(c).

C. Missouri's Request for Delegation

On October 6, 2025, MoDNR submitted to the EPA a request to receive delegation of authority to implement and enforce a partial RMP for agricultural anhydrous ammonia facilities in Missouri and supplemented this request on October 9, 2025. The EPA responded to MoDNR's request on October 10, 2025, acknowledging the receipt of the request for partial program delegation and describing the steps required to delegate the partial RMP. The EPA reviewed the information provided with the request for partial program delegation and requested further information on October 17, 2025. On October 27, 2025, MoDNR submitted supplemental information for its request. On October 30, 2025, the EPA determined that the delegation package was complete and sent MoDNR a letter stating the delegation request was determined to be complete.

On October 4, 2022, the Missouri General Assembly amended the Missouri Air Conservation Law, Chapter 643 of the Revised Statutes of Missouri (RSMo 643) to give the Missouri Air Conservation Commission the authority to adopt rules necessary to implement and enforce the RMP under 42 U.S.C. 7412(r) for agricultural facilities, effective January 2, 2023. The Missouri Air Conservation Commission adopted the Chemical Accident Prevention for Agricultural Anhydrous Ammonia regulations at 10 CSR 10-6.255, and the rules became effective February 28, 2025.

The regulations at 10 CSR 10-6.255 adopted the requirements of 40 CFR part 68 with changes. Specifically, the State's rules:

1. Replace the term “stationary source” in 40 CFR part 68 with the term “agricultural anhydrous ammonia facility,” which is defined at 10 CSR 10-6.255(2)(C); and

2. Replace the term “recognized and generally accepted good engineering practices” as it appears in 40 CFR 68.48(b), 40 CFR 68.56(d), 40 CFR 68.65(d)(2), and 40 CFR 68.73(d)(2), with the clause “ANSI/CGA G-2.1-2023 Requirements for the Storage and Handling of Anhydrous Ammonia (Seventh Edition).” This references the American National Standards Institute and Compressed Gas Association's industry standards, and the rule permits the use of alternative codes and specifications if demonstrated to be equivalent to or safer than the ANSI/CGA standard and such demonstrations is approved in advance by the MoDNR director.

III. The EPA's Analysis of MoDNR's Submittal

Based on MoDNR's delegation request for a partial RMP and applicable laws and regulations, the EPA is proposing to approve the request, as MoDNR has satisfied the relevant criteria of 40 CFR 63.91, 63.93, and 63.95. The EPA is treating MoDNR's request as a request for delegation of a partial program with changes to the rule under 40 CFR 63.91(a)(2) and (4), as Missouri's regulations made changes to the RMP in 40 CFR part 68 as described above.

In accordance with 40 CFR 63.91(d)(1), the State's delegation request meets the section 112(l) approval criteria specified in the CAA and in 40 CFR 63.93 and 63.95.

Missouri's request for approval also satisfies the criteria of 40 CFR 63.91(d)(3). MoDNR provided a written finding by the Missouri Attorney General detailing MoDNR's authority to implement and enforce the RMP for agricultural anhydrous ammonia facilities, including:

• The authority to restrain or enjoin any person from engaging in any activity presenting an imminent and substantial endangerment to the public health or the environment; the ability to seek injunctive relief in court to enjoin any violation of any program requirement; and the authority to assess or sue to recover civil penalties and seek criminal remedies, found at section 643.085, RSMo;

• The authority to request information from regulated sources regarding their compliance status, found at section 643.050, RSMo; and

• The authority to inspect sources and any records required to determine a source's compliance status, found at section 643.050, RSMo.

The Attorney General also determined that MoDNR had adequate authorities to assure compliance with the RMP for sources subject to these provisions and inspect sources and records required to determine compliance status, as required by 40 CFR 63.91(d)(3)(i)(B) and (C). As explained above, RSMo sections 643.060 and 643.080 provide MoDNR with authority to request information from and conduct inspections of such sources.

In accordance with 40 CFR 63.91(d)(3)(ii)-(v), MoDNR submitted copies of the appropriate provisions of State statutes and regulations, documentation of adequate resources to implement and enforce the RMP, and a schedule and plan to assure expeditious implementation and compliance by all sources, including a description of the State's compliance tracking, enforcement program, and inspection strategies. With respect to adequate resources and expeditious implementation, MoDNR currently has three employees devoted almost entirely to program implementation.

In September 2025, MoDNR created an inspection targeting list for Federal fiscal year 2026 and began conducting inspections and compliance assistance visits of agricultural anhydrous ammonia facilities. MoDNR has three staff who are trained to conduct inspections to ensure compliance with 10 CSR 10-6.255. There are currently approximately 200 facilities subject to Missouri's regulations, such that MoDNR plans to inspect approximately 40 facilities each year. Therefore, MoDNR's request for approval of a partial RMP comports with the approval criteria set forth in 40 CFR 63.91(d).

MoDNR's request for approval also meets the approval criteria of 40 CFR 63.93(b). We have reviewed the limited changes Missouri made to its regulation and have determined that the applicability criteria and program requirements for each affected source are no less stringent than 40 CFR part 68. As detailed above, one of the requirements of Missouri's rule that differs from 40 CFR part 68 is the replacement of “recognized and generally accepted good engineering practices” with the 2023 ANSI/CGA standard for anhydrous ammonia. However, Missouri's rule also provides for the use of equivalent or safer industry standards. See 10 CSR 10-6.255(3)(A)(2).

The other change made to the rule is the substitution of the term “agricultural anhydrous ammonia facility” for the term “stationary source” anywhere it appears in 40 CFR part 68. Missouri's regulation defines “agricultural anhydrous ammonia facility” as “a stationary source facility that uses, stores, or sells agricultural anhydrous ammonia that meets the threshold quantity of ten thousand (10,000) lbs. as listed in Table 2 of 40 CFR 68.130.” The EPA finds that this change is no less stringent than the applicability criteria of 40 CFR part 68, which states that the owner or operator of a stationary source with a process subject to either Program 1, Program 2, or Program 3 must comply with the applicable requirements. See 40 CFR 68.10(j)-(l); 68.12(b)-(d). The federal rule defines “process” as “any activity involving a regulated substance including any use, storage, manufacturing, handling, or on-site movements of such substances, or combination of these activities.” 40 CFR 68.3. A “covered process” means “a process that has a regulated substance present in more than a threshold quantity as determined under § 68.115.” The definition of “agricultural anhydrous ammonia facility” in Missouri's regulation specifically incorporates the process and covered process for the identified stationary sources because the partial program covers only agricultural anhydrous ammonia. Replacing “stationary source” with “agricultural anhydrous ammonia facility” results in applicability criteria for Missouri's partial program that is no less stringent than 40 CFR part 68.

The approval criteria set forth in § 63.93(b)(3) requires the delegation request to contain a compliance schedule that requires each affected source to be in compliance within a time frame consistent with the deadlines established in the otherwise applicable Federal rule. The RMP establishes compliance deadlines for the owner or operator of a stationary source that has more than a threshold quantity of a regulated substance in a process, as determined under § 68.115, and states the owner or operator shall comply with the requirements of this part no later than the latest of the following dates:

(1) June 21, 1999;

(2) Three years after the date on which a regulated substance is first listed under § 68.130;

(3) The date on which a regulated substance is first present above a threshold quantity in a process; or

(4) For any revisions to this part, the effective date of the final rule that revises this part.

40 CFR 68.10(a).

Missouri's regulation incorporates by reference the provisions of 40 CFR part 68 with two changes, as noted above. Missouri's regulation became effective on February 28, 2025. Therefore, agricultural anhydrous ammonia facilities, as that term is defined in 10 CSR 10-6.255(2)(C), are currently subject to the Missouri regulation and must comply with 10 CSR 10-6.255 and, as incorporated by reference into the regulation, the compliance schedule of 40 CFR 68.10(a).

Therefore, the EPA finds that MoDNR's request for approval of a delegation of a partial RMP meets the criteria of 40 CFR 63.93(b).

Furthermore, pursuant to 40 CFR 63.95(b)(1), the State's request for approval demonstrates that it has the authority and resources to implement and enforce regulations that are no less stringent than the regulations in 40 CFR part 68, subparts A through G, and § 68.200, and a requirement that subject sources submit a risk management plan that reports at least the same information in the same format to the same location as required under 40 CFR part 68, subpart G.

Under 40 CFR 63.95(b)(2), a State's RMP may require reporting of information not required by the Federal program, and these requirements (like any other additional State requirements) will become federally enforceable upon approval. In this case, MoDNR has directly adopted by reference the Federal program in part 68 for the reporting requirements of subpart G.

As required by 40 CFR 63.95(b)(3)-(4), MoDNR submitted documentation that it has adequate procedures for reviewing risk management plans, providing technical assistance to stationary sources, including small businesses, and auditing risk management plans in a manner consistent with 40 CFR 68.220. In particular, MoDNR will review and audit risk management plans as part of the execution of its inspection scheme, by which facilities are inspected, at a minimum, once every five years based on both randomized data and targeted lists of facilities with late filing or non-submittal of risk management plans. MoDNR meets the minimum compliance and enforcement measures described in § 63.95 as discussed above, fulfilling the requirement of 40 CFR 63.91(d)(1).

If this proposal is finalized, MoDNR will have primary authority and responsibility to implement and enforce the RMP for agricultural anhydrous ammonia facilities in Missouri. However, nothing shall preclude, limit, or interfere with the authority of the EPA to exercise its outreach and compliance assistance, enforcement, investigatory, and information gathering authorities concerning this part of the CAA. If the EPA determines that MoDNR's procedures for enforcing or implementing the 40 CFR part 68 requirements are inadequate, or are not being effectively carried out, this delegation may be revoked in whole or in part in accordance with the procedures set forth in 40 CFR 63.96(b).

IV. Proposed Action

The EPA proposes to approve MoDNR's request for delegation of authority to implement and enforce a partial RMP for agricultural anhydrous ammonia facilities. MoDNR has incorporated by reference, with changes, the Federal requirements set forth in 40 CFR part 68 at 10 CSR 10-6.255 and regulates agricultural anhydrous ammonia facilities through this authority as well as its authority in RSMo sections 643.050, 643.060, 643.080, and 643.085. This delegation will extend to agricultural anhydrous ammonia facilities, as that term is defined in 10 CSR 10-6.255(2)(C), which are sources subject to the accidental release prevention regulations in 40 CFR part 68.

V. Incorporation by Reference

In this document, the EPA is proposing to include regulatory text in an EPA final rule that includes incorporation by reference. In accordance with the requirements of 1 CFR 51.5, the EPA is proposing to finalize the incorporation by reference of the Missouri rule 10 CSR 10-6.255 discussed in section II. of this preamble and as set forth below in the proposed amendments to 40 CFR part 63. The purpose of this State regulation is to define the Agricultural Anhydrous Ammonia Program and the requirements of the program in the State of Missouri. The EPA has made, and will continue to make, these materials generally available through https://www.regulations.gov and at the EPA Region 7 Office (please contact the person identified in the FOR FURTHER INFORMATION CONTACT section of this preamble for more information).

VI. Statutory and Executive Order Reviews

Under the CAA, the Regional Administrator has the authority to approve section 112(l) submissions that comply with the provisions of the Act and applicable Federal regulations. Thus, in reviewing delegation requests under 112(l), the EPA's role is to review and approve State program delegation requests, provided that they meet the criteria and objectives of the CAA and the EPA's implementing regulations. Accordingly, this proposed action merely approves the State's request and does not impose additional requirements beyond those imposed by State law. For that reason:

A. Executive Order 12866: Regulatory Planning and Review and Executive Order 13563: Improving Regulation and Regulatory Review

This action is not a significant regulatory action as defined in Executive Order 12866 (58 FR 51735, October 4, 1993) and was therefore not submitted to the Office of Management and Budget (OMB) for review.

B. Executive Order 14192: Unleashing Prosperity Through Deregulation

This action is not an Executive Order 14192 regulatory action because this action is not significant under Executive Order 12866.

C. Paperwork Reduction Act (PRA)

This action does not impose an information collection burden under the PRA (44 U.S.C. 3501 et seq.) because it does not contain any information collection activities.

D. Regulatory Flexibility Act (RFA)

This action is certified as not having a significant economic impact on a substantial number of small entities under the RFA (5 U.S.C. 601 et seq.). This action merely delegates to the local agency the authority to implement the already applicable requirements of the Federal Rule.

E. Unfunded Mandates Reform Act (UMRA)

This action does not contain an unfunded mandate as described in UMRA, 2 U.S.C. 1531-1538, and does not significantly or uniquely affect small governments.

F. Executive Order 13132: Federalism

This action does not have federalism implications as specified in Executive Order 13131 (64 FR 43255, August 10, 1999). It will not have substantial direct effects on the States, on the relationship between the national government and the States, or on the distribution of power and responsibilities among the various levels of government.

G. Executive Order 13175: Consultation and Coordination With Indian Tribal Governments

This action does not have Tribal implications as specified in Executive Order 13175. Thus, Executive Order 13175 does not apply to this action.

H. Executive Order 13045: Protection of Children From Environmental Health Risks and Safety Risks

Executive Order 13045 directs federal agencies to include an evaluation of the health and safety effects of the planned regulation on children in federal health and safety standards and explain why the regulation is preferable to potentially effective and reasonably feasible alternatives. This action is not subject to Executive Order 13045 because it is not a significant regulatory action under section 3(f)(1) of Executive Order 12866, and because the EPA does not believe the environmental health or safety risks addressed by this action present a disproportionate risk to children. This action merely delegates to a State agency the authority to administer the already applicable RMP.

I. Executive Order 13211: Actions Concerning Regulations That Significantly Affect Energy Supply, Distribution or Use

This action is not subject to Executive Order 13211 (66 FR 28355, May 22, 2001), because it is not a significant regulatory action under Executive Order 12866.

J. National Technology Transfer and Advancement Act (NTTAA)

This rulemaking does not involve technical standards. This action merely delegates to a State agency the authority to administer the already applicable RMP.

List of Subjects in 40 CFR Part 63

Environmental protection, Air pollution control, Chemicals, Hazardous substances, Incorporation by reference, Intergovernmental relations, Risk management program.

Dated: February 6, 2026.
James Macy,
Regional Administrator, Region 7.

For the reasons stated in the preamble, EPA proposes to amend 40 CFR part 63 as set forth below:

PART 63—NATIONAL EMISSION STANDARDS FOR HAZARDOUS AIR POLLUTANTS FOR SOURCE CATEGORIES

1. The authority citation for part 63 continues to read as follows:

Authority: 42 U.S.C. 7401 et seq.

Subpart A—General Provisions

2. Section 63.14 is amended by adding paragraph (n)(14) to read as follows:

§ 63.14 Incorporations by reference.

* * * * *

(n) * * *

(14) Missouri Department of Natural Resources regulations at Division 10, Air Conservation Commission, Chapter 6 Air Quality Standards, Definitions, Sampling and Reference Methods and Air Pollution Control Regulations for the Entire State of Missouri, section 255, “Chemical Accident Prevention for Agricultural Anhydrous Ammonia”, effective as of February 28, 2025. Incorporation by reference approved for § 63.99(a).

* * * * *

Subpart E—Approval of State Programs and Delegation of Federal Authorities

3. Section 63.99 is amended by adding paragraph (a)(26) to read as follows:

§ 63.99 Delegated Federal authorities.

(a) * * *

(26) Affected agricultural anhydrous ammonia facilities within Missouri must comply with the Chemical Accident Prevention for Agricultural Anhydrous Ammonia 10 CSR 10-6.255 (incorporated by reference as specified in § 63.14). 10 CSR 10-6.255 of Missouri's Code of State Regulations pertains to agricultural anhydrous ammonia facilities in the State of Missouri's jurisdiction and have been approved under the procedures of § 63.93 and § 63.95 to be implemented and enforced in place of 40 CFR part 68 by the State.

* * * * *

[FR Doc. 2026-03891 Filed 2-25-26; 8:45 am]

BILLING CODE 6560-50-P